DEPARTMENT OF TRANSPORTATION

Federal Aviation Administration

[Summary Notice No. PE-2001-78]

Petitions for Exemption; Summary of Dispositions of Petitions Issued

AGENCY: Federal Aviation Administration (FAA), DOT.

ACTION: Notice of Dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchana—Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC, on October 3, 2001.
Donald P. Byrne,
Assistant Chief Counsel for Regulations.

Disposition of Petitions

Docket No: FAA-2001-10637.

Petitioner: Fullerton Municipal Airport and Eagle Flight.

Section of 14 CFR Affected: 14 CFR 135.251, 135.255, 135.353, and appendixes I and J.

Description of Relief Sought/Disposition: To permit Fullerton Municipal Airport and Eagle Flight to conduct local sightseeing flights at Fullerton Municipal Airport, Fullerton, California, for Eagle Flight 15 during October 2001, for compensation or hire, without complying with certain anti-drug and alcohol misuse prevention requirements of part 135.

Grant, 09/27/2001, Exemption No. 7630

Docket No.: FAA-2001-9982.

Petitioner: Cessna Aircraft Company.

Section of 14 CFR Affected: 14 CFR §25.785(b).

Description of Relief Sought/Disposition: To permit Cessna to equip Cessna Model 608 Sovereign airplanes that were manufactured before January 1, 2004, with multiple-occupancy side-facing seats that are not designed to include the general occupant protection requirements of §25.785(b).

Partial Grant, 09/07/2001, Exemption No. 7625

Docket No.: FAA-2001-10166.

Petitioner: Country Flying Education, Inc.

Section of 14 CFR Affected: 14 CFR 135.251, 135.255, 135.353, and appendixes I and J to part 121.

Description of Relief Sought/Disposition: To permit CFR to conduct local sightseeing flights at Necedah Airport, Necadah, Wisconsin, for the annual Open House during October 2001, for compensation or hire, without complying with certain anti-drug and alcohol misuse prevention requirements of part 135.

Grant, 09/27/2001, Exemption No. 7629

Docket No.: FAA-2001-10165.

Petitioner: North Jersey Chapter of the Ninety-Nines, Inc.

Section of 14 CFR Affected: 14 CFR 135.255, 135.353, and appendixes I and J to part 121.

Description of Relief Sought/Disposition: To permit the Ninety-Nines to conduct local sightseeing flights in the vicinity of Lincoln Part, New Jersey, for its Pennies-a Pound event during October 2001, for compensation or hire, without complying with certain anti-drug and alcohol misuse prevention requirements of part 135.

Grant, 09/27/2001, Exemption No. 7628

[FR Doc. 01-25297 Filed 10-5-01; 8:45 am]

BILLING CODE 4910-13-M